FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 10, 2017.

A. Federal Reserve Bank of Dallas (Robert L. Triplett III, Senior Vice President) 2200 North Pearl Street, Dallas, Texas 75201-2272:

1. Shair Baz Hakemy and Sabreena Hakemy, both of Southlake, Texas; as a group acting in concert (the Hakemy Family Group—Retroactive), to retain and acquire voting shares of Riverbend Financial Corporation, Fort Worth, Texas; and Shair Baz Hakemy to acquire shares of Riverbend Financial Corporation, and thereby acquire shares of Riverbend Bank, Fort Worth, Texas.

Board of Governors of the Federal Reserve System, September 19, 2017.
Yao-Chin Chao,
Assistant Secretary of the Board.

[FR Doc. 2017-20286 Filed 9-21-17; 8:45 am]

BILLING CODE P